FEDERAL TRADE COMMISSION

Agency Information Collection Activities; Submission to the Office of Management and Budget for Review and Approval; Comment Request

AGENCY: Federal Trade Commission.

ACTION: Notice.

SUMMARY: The Federal Trade Commission (“FTC” or “Commission”) requests that the Office of Management and Budget (“OMB”) extend for an additional three years the current Paperwork Reduction Act (“PRA”) clearance for information collection requirements in its Energy Labeling Rule. The existing clearance expires on November 30, 2019.

DATES: Comments must be submitted on or before November 21, 2019.

ADDRESSES: Comments in response to this notice should be submitted to the OMB Desk Officer for the Federal Trade Commission within 30 days of this notice. You may submit comments using any of the following methods:

Electronic: Write “Energy Labeling Rule, PRA Comment, FTC File No. R611004,” on your comment and file your comment online at https://www.regulations.gov, by following the instructions on the web-based form.

Email: MBX.OMB.OIRA.Submission@OMB.eop.gov.

Mail: Office of Information and Regulatory Affairs, Office of Management and Budget, Attention: Desk Officer for the Federal Trade Commission, New Executive Office Building, Docket Library, Room 10102, 725 17th Street NW, Washington, DC 20503.

FOR FURTHER INFORMATION CONTACT: Hampton Newsome, (202) 326-2889, Attorney, Division of Enforcement, Bureau of Consumer Protection, Federal Trade Commission, 600 Pennsylvania Avenue NW, Washington, DC 20580.

SUPPLEMENTARY INFORMATION: Pursuant to the Paperwork Reduction Act of 1995 (44 U.S.C. 3501 et seq.), the FTC has submitted to the Office of Management and Budget (“OMB”) this request for extension of the previously approved collection of information discussed below.

Title: Energy Labeling Rule.

OMB Control Number: 3084-0069.

Type of Review: Extension without change of currently approved collection.

Estimated Annual Hours Burden: 478,000 hours (rounded).

The estimated hours burden imposed by Section 324 of the Energy Policy and Conservation Act of 1975 and the Commission's Rule includes burden for testing (354,802 hours); reporting (1,828 hours); recordkeeping (1,019 hours); labeling (108,864 hours); retail and online catalog disclosures (6,800 hours); and online label posting (4,533 hours). The total burden for these activities is 478,000 hours (rounded to the nearest thousand).

Testing: 354,802 hours and $10,065,733 in associated labor costs.

Reporting: 1,828 hours and $29,687 in associated labor costs.

Recordkeeping: 1,019 hours and $16,549 in associated labor costs.

Labeling: 108,864 hours and $1,767,951 in associated labor costs.

Online and catalog disclosures: 6,800 hours and $110,432 in associated labor costs.

Online label posting: 4,533 hours and $73,616 in associated labor costs.

The total estimated burden is 478,000 hours (rounded) and $12,063,968 in associated labor costs. Commission staff estimates that the Energy Labeling Rule imposes negligible capital or other non-labor costs, as affected entities are likely to have already invested in the necessary supplies and equipment to comply with the associated information collection provisions. Manufacturers that elect to submit required reports to the Commission directly (rather than electronically or through trade associations) would incur some nominal costs for paper and postage. Staff estimates that these costs do not exceed $2,500. Manufacturers must also incur the cost of procuring labels used in compliance with the Rule. Staff estimates the cost associated with procuring labels by covered entities is approximately $5,670,000.

Request for Comment: On June 24, 2019, the Commission sought comment on the information collection requirements associated with the Energy Labeling Rule. 84 FR 29515. One comment was received. Pursuant to the OMB regulations, 5 CFR part 1320, that implement the PRA, 44 U.S.C. 3501 et seq., the FTC is providing this second opportunity for public comment while seeking OMB approval to renew the pre-existing clearance for those information collection requirements. An agency may not conduct or sponsor, and a person is not required to respond to a collection of information unless it displays a valid OMB control number.

Your comment—including your name and your state—will be placed on the public record of this proceeding. Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is . . . privileged or confidential” as provided in Section 6(f) of the FTC Act 15 U.S.C. 46(f), and FTC Rule 4.10(a)(2), 16CFR 4.10(a)(2). In particular, do not include competitively sensitive information such as costs, sales statistics, inventories, formulas, patterns devices, manufacturing processes, or customer names.

Heather Hippsley,
Deputy General Counsel.

[FR Doc. 2019-22950 Filed 10-21-19; 8:45 am]

BILLING CODE 6750-01-P